DEPARTMENT OF LABOR

Employment and Training Administration

[TA-W-53,320]

Standard Motor Company Argos Assemblies Plant Argos, Indiana; Notice of Termination of Investigation

Pursuant to Section 221 of the Trade Act of 1974, as amended, an investigation was initiated on October 23, 2003 in response to a petition filed by workers at Standard Motor Company, Argos Assemblies Plant, Argos, Indiana.

The petitioner has requested that the petition be withdrawn. Consequently, the investigation has been terminated.

Signed at Washington, DC, this 13th day of November, 2003.
Linda G. Poole,
Certifying Officer, Division of Trade Adjustment Assistance.

[FR Doc. 03-30087 Filed 12-2-03; 8:45 am]

BILLING CODE 4510-30-P